SECURITIES AND EXCHANGE COMMISSION

Sunshine Act; Meetings

Notice is hereby given, pursuant to the provisions of the Government in the Sunshine Act, Pub. L. 94-409, that the Securities and Exchange Commission will hold the following meetings during the week of December 15, 2003:

A Closed Meeting will be held on Tuesday, December 16, 2003 at 2 p.m., and an Open Meeting will be held on Wednesday, December 17, 2003, at 10 a.m. in Room 1C30, the William O. Douglas Room.

Commissioner Campos, as duty officer, determined that no earlier notice thereof was possible.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(5), (7), 9(B) and (10) and 17 CFR 200.402(a)(5), (7), (9)(ii) and (10), permit consideration of the scheduled matters at the Closed Meeting.

Commissioner Campos, as duty officer, voted to consider the items listed for the closed meeting in closed session.

The subject matter of the Closed Meeting scheduled for Tuesday, December 16, 2003 will be:

Formal orders of investigation;

Institution and settlement of administrative proceedings of an enforcement nature;

Institution and settlement of injunctive actions; and

Adjudicatory matter.

The subject matter of the Open Meeting scheduled for Wednesday, December 17, 2003 will be:

1. The Commission will consider whether to approve a proposed rule change by the New York Stock Exchange to amend and restate its Constitution to reform the governance and management architecture of the Exchange.

For further information, please contact Rebekah Liu, at (202) 942-0133.

2. The Commission will consider whether to propose amendments to Form N-1A under the Securities Act of 1933 and the Investment Company Act of 1940 that would require an open-end management investment company to provide enhanced prospectus disclosure regarding breakpoint discounts on front-end sales loads.

For further information, please contact Christian L. Broadbent at (202) 942-0721.

3. The Commission will consider whether to issue a concept release on mutual fund transaction costs. The release would seek public comment on whether mutual funds should be required to quantify and disclose to investors as a separate line item the amount of transaction costs they incur; include transaction costs in their expense ratios and fee tables; provide other quantitative measures or additional disclosure that would provide investors an indication of the level of the investment company's transaction costs; or some combination of the above. The release also would seek comment on whether mutual funds should be required to record transaction costs or the portion of those costs that represent soft dollar benefits (i.e., the non-execution portion) as an expense in their financial statements.

For further information contact: Paul Goldman at (202) 942-0510.

At times, changes in Commission priorities require alterations in the scheduling of meeting items. For further information and to ascertain what, if any, matters have been added, deleted or postponed, please contact:

The Office of the Secretary at (202) 942-7070.

Dated: December 10, 2003.
Margaret H. McFarland,
Deputy Secretary.

[FR Doc. 03-30935 Filed 12-10-03; 8:45 am]

BILLING CODE 8010-01-P